DEPARTMENT OF HEALTH AND HUMAN SERVICES

Centers for Disease Control and Prevention

Board of Scientific Counselors, National Center for Environmental Health/Agency for Toxic Substances and Disease Registry (BSC, NCEH/ATSDR)

In accordance with section 10(a)(2) of the Federal Advisory Committee Act (Pub. L. 92-463), the Centers for Disease Control and Prevention (CDC), announces the following meeting of the aforementioned committee:

Times and Dates:

8:30 a.m.-4:30 p.m., EST, January 17, 2017

8:30 a.m.-11:30 a.m., EST, January 18, 2017

Place: CDC, 4770 Buford Highway, Atlanta, Georgia 30341

Status: Open to the public, limited only by the space available. The meeting room accommodates approximately 60 people. The public is welcome to participate during the public comment period which in tentatively scheduled on Tuesday, January 17, 2017 from 1:30 p.m. until 1:45 p.m., and on Wednesday, January 18, 2017 from 10:30 a.m. until 10:45 a.m. This meeting will also be available by teleconference. Please dial (877) 315-6535 and enter code 383520#.

Purpose: The Secretary, Department of Health and Human Services (HHS) and by delegation, the Director, CDC and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and wellbeing; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters for Discussion: The agenda items for the BSC Meeting will include NCEH/ATSDR Office of the Director updates; Hydraulic Fracturing; NCEH/ATSDR Program Responses to BSC Guidance and Action Items; HUD's Lead Hazard Control Program and Implications for a Change in the CDC Reference Value; Update on NCEH/ATSDR Support for Flint, Michigan; Update on NCEH Lead Surveillance Program; Recommendations from the BSC Lead Poisoning Prevention Subcommittee; NCEH/ATSDR response to Public Health Emergencies; Federal Research Action Plan on Tire Crumb Used on and Playing Fields and Playgrounds; updates from the National Institute of Environmental Health Sciences, the National Institute for Occupational Safety and Health, the U.S. Department of Energy and the U.S. Environmental Protection Agency.

Agenda items are subject to change as priorities dictate.

Contact Person for More Information: Amanda Malasky, ORISE Fellow, NCEH/ATSDR, 4770 Buford Highway, Mail Stop F-45, Atlanta, Georgia 30341; Telephone 770/488-7699; Email: yoo0@cdc.gov. The deadline for notification of attendance is January 13, 2017.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2016-29454 Filed 12-8-16; 8:45 am]

BILLING CODE 4163-18-P